ELECTION ASSISTANCE COMMISSION

Sunshine Act Notice

AGENCY: U.S. Election Assistance Commission.

ACTION: Notice of Public Meeting for EAC Standards Board.

DATE & TIME: Tuesday, April 28, 2015, 9:00 a.m.-5:00 p.m. and Wednesday, April 29, 2015, 9:00 a.m.-2:00 p.m.

PLACE: The Williamsburg Woodlands Hotel, 105 Visitor Center Drive, Williamsburg, VA 23185, Phone: (757) 220-7960.

PURPOSE: The U.S. Election Assistance Commission (EAC) Standards Board, as required by the Help America Vote Act of 2002, will meet to organize and select an executive board following a suspension of activity. The Standards Board will present its views on issues in the administration of Federal elections, formulate recommendations to the EAC, and receive updates on EAC program activities. The Board will designate a Bylaws Committee, an EAC Executive Director Search Committee, and a Voting Systems Standards Committee. The Board will receive a briefing on the EAC Grants program. The Board will receive a briefing on the EAC Testing & Certification program with updates on the Voluntary Voting System Guidelines (VVSG 1.1). The Board will receive a briefing on the EAC Research Program. The Board will receive a briefing by the National Association of State Election Directors (NASED) Voting Systems Committee. The Board will receive a briefing on Disability Grants. The Board will receive a briefing by the Federal Voting Assistance Program (FVAP). The Board will receive a briefing on the activities of the EAC's Technical Guidelines Development Committee (TGDC). The Board will receive a status report on a State Testing & Certification Consortium. The Board will hear committee reports and consider other administrative matters.

This Meeting Will Be Open to the Public

PERSON TO CONTACT FOR INFORMATION: Bryan Whitener, Telephone: (301) 563-3961.

Bryan Whitener,
Director of Communications and Clearinghouse, U.S. Election Assistance Commission.

[FR Doc. 2015-08532 Filed 4-9-15; 4:15 pm]

BILLING CODE 6820-KF-P